DEPARTMENT OF COMMERCE

National Oceanic and Atmospheric Administration

RIN 0648-XC597

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an exempted fishing permit application contains all of the required information and warrants further consideration. This exempted fishing permit would exempt vessels from monkfish days-at-sea possession limits to commercially harvest monkfish during compensation fishing in support of a project funded under the 2012 Monkfish Research Set-Aside Program. The primary goal of the research is to validate monkfish aging methods and would be conducted by the University of Massachusetts, Dartmouth, School for Marine Science and Technology.

Regulations under the Magnuson-Stevens Fishery Conservation and Management Act require publication of this notification to provide interested parties the opportunity to comment on applications for proposed exempted fishing permits.

DATES: Comments must be received on or before June 14, 2013.

ADDRESSES: You may submit written comments by any of the following methods:

• Email: nero.efp@noaa.gov. Include in the subject line “Comments on SMAST Monkfish RSA EFP.”

•Mail: John K. Bullard, Regional Administrator, NMFS, Northeast Regional Office, 55 Great Republic Drive, Gloucester, MA 01930. Mark the outside of the envelope “Comments on SMAST monkfish RSA EFP.”

• Fax: (978) 281-9135.

FOR FURTHER INFORMATION CONTACT: Jason Berthiaume, Fishery Management Specialist, 978-281-9177.

SUPPLEMENTARY INFORMATION: The University of Massachusetts, Dartmouth, School for Marine Science and Technology (SMAST) submitted a complete application for an exempted fishing permit (EFP) on January 7, 2013, to conduct fishing activities that the regulations would otherwise prohibit. The EFP would exempt compensation fishing vessels from monkfish days-at-sea (DAS) possession limits in the Northern and Southern Monkfish Fishery Management Areas (NFMA and SFMA). Fishing activity would otherwise be conducted under normal monkfish commercial fishing practices. The vessels would use standard commercial gear and land monkfish for sale. Compensation fishing may occur through April 2014.

SMAST has been awarded 129 monkfish DAS under the 2012 Monkfish Research Set-Aside (RSA) Program to conduct research that focuses on validating the age of monkfish by incorporating a chemical marker into the age structures in a laboratory study and examining the influence of temperature. To facilitate compensation fishing in support of this research, the applicant has requested exemptions from monkfish DAS possession limits at 50 CFR 648.94(b)(1) and (2). The applicant stated that these exemptions would provide the vessels with flexibility to fulfill the financial needs of the project, while minimizing vessel operating expenses.

Monkfish EFPs that waive possession limits were first issued in 2007, and each year thereafter through 2011. The EFPs were approved to increase operational efficiency and to optimize research funds generated from RSA DAS. To ensure that the amount of monkfish harvested by vessels operating under the EFPs was similar to the amount of monkfish that was anticipated to be harvested under the 500 RSA DAS set-aside by the New England Fishery Management Council, NMFS has used 3,600 lb (1,633 kg) of whole monkfish per RSA DAS. This amount of monkfish was the equivalent of a double possession limit of Permit Category A and C vessels fishing in the SFMA. This was deemed a reasonable approximation because it was reflective of how the standard monkfish commercial fishery operates. It is likely that RSA grant recipients optimize their RSA DAS award by utilizing this possession limit.

SMAST developed its RSA proposal and budget in a manner that was consistent with previously approved EFPs. However, prior to submission of the RSA proposal, NMFS implemented Amendment 5 to the Monkfish FMP. Amendment 5 adjusted the tail-to-whole-weight conversion factor from 3.32 to 2.91, which essentially reduced the whole weight possession limits. Because this project was originally awarded DAS in fishing year 2012 and the budget was designed using 3,600 lb (1,633 kg) per DAS, the EFP, if approved, would allow this project to continue operating under this limit until the project's conclusion on April 30, 2014. This project was awarded 129 DAS. Therefore, participating vessels could use up to 129 DAS, catch up to 464,400 lb (210,648 kg) whole monkfish, or fish under the EFP until April 30, 2014, whichever comes first.

When applicable, or as required by the regulations, participating vessels may also concurrently use Northeast multispecies DAS while conducting monkfish compensation fishing. All catch of Northeast multispecies would be accounted for under applicable Northeast multispecies quotas.

If approved, the applicant may request minor modifications to the EFP throughout the year. EFP modifications may be granted without further notice if they are deemed essential to facilitate completion of the proposed research and have minimal impacts that do not change the scope or impact of the initially approved EFP request. Any fishing activity conducted outside the scope of the exempted fishing activity would be prohibited.

Authority: 16 U.S.C. 1801 et seq.

Dated: May 24, 2013.
James P. Burgess,
Acting Deputy Director, Office of Sustainable Fisheries, National Marine Fisheries Service.

[FR Doc. 2013-12864 Filed 5-29-13; 8:45 am]

BILLING CODE 3510-22-P